DEPARTMENT OF ENERGY

Federal Energy Regulatory Commission

Combined Notice of Filings

Take notice that the Commission has received the following Natural Gas Pipeline Rate and Refund Report filings:

Docket Number: CP21-16-000.

Applicants: Midcontinent Express Pipeline LLC.

Description: Joint Abbreviated Application of Midcontinent Express Pipeline LLC et al for Partial Lease Capacity Abandonment Authorization.

Filed Date: 12/10/20.

Accession Number: 202012105111.

Comments Due: 5 p.m. ET 1/4/21.

Docket Number: PR21-8-000.

Applicants: Interstate Power and Light Company.

Description: § 284.123 Rate Filing: 2020 Fuel Reimbursement Mechansim Report to be effective N/A.

Filed Date: 12/15/20.

Accession Number: 202012155048.

Comments Due: 5 p.m. ET 1/5/21.

Docket Number: PR21-9-000.

Applicants: Jefferson Island Storage & Hub, L.L.C.

Description: § 284.123 Rate Filing: 2020 Fuel Reimbursement Mechansim Report to be effective N/A.

Filed Date: 12/15/20.

Accession Number: 202012155063.

Comments Due: 5 p.m. ET 1/5/21.

Docket Number: PR21-10-000.

Applicants: Valley Crossing Pipeline, LLC.

Description: § 284.123 Rate Filing: 2020 Fuel Reimbursement Mechansim Report to be effective N/A.

Filed Date: 12/15/20.

Accession Number: 202012155075.

Comments Due: 5 p.m. ET 1/5/21.

Docket Numbers: RP21-232-001.

Applicants: Cheniere Corpus Christi Pipeline, LP.

Description: Compliance filing CCPL Stage 3 Supplemental Compliance Filing CP18-513 to be effective 2/1/2021.

Filed Date: 12/15/20.

Accession Number: 20201215-5078.

Comments Due: 5 p.m. ET 12/28/20.

Docket Numbers: RP21-309-000.

Applicants: Portland Natural Gas Transmission System.

Description: Compliance filing 2020 Fuel Reimbursement Mechansim Report to be effective N/A.

Filed Date: 12/15/20.

Accession Number: 20201215-5035.

Comments Due: 5 p.m. ET 12/28/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 16, 2020.
Kimberly D. Bose,
Secretary.

[FR Doc. 2020-28236 Filed 12-21-20; 8:45 am]

BILLING CODE 6717-01-P